FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 17, 2014.

A. Federal Reserve Bank of St. Louis (Yvonne Sparks, Community Development Officer) P.O. Box 442, St. Louis, Missouri 63166-2034:

1. David Leon Barnett and Linda Kay Barnett, both of Summersville, Missouri, jointly; to acquire voting shares of Summersville Bancorporation, Inc., and thereby indirectly acquire voting shares of Community Bank, N.A., both in Summersville, Missouri.

B. Federal Reserve Bank of Dallas (E. Ann Worthy, Vice President) 2200 North Pearl Street, Dallas, Texas 75201-2272:

1. Kenneth D. Willmon, individually and as co-trustee of AIM Bancshares, Inc. 401(k) and Employee Stock Ownership Program; Lanny B. Modawell; Marjorie Willmon; and Debra Willmon, all of Lubbock, Texas; to retain voting shares of AIM Bancshares, Inc., Lovelland, Texas, and thereby indirectly retain voting shares of AimBank, Littlefield, Texas.

Board of Governors of the Federal Reserve System, May 28, 2014.
Michael J. Lewandowski,
Associate Secretary of the Board.

[FR Doc. 2014-12672 Filed 5-30-14; 8:45 am]

BILLING CODE 6210-01-P